DEPARTMENT OF HEALTH AND HUMAN SERVICES

Office of the Secretary

[Document Identifier HHS-OS-20165-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for revision of a previously-approved information collection assigned OMB control number 0937-0025, which expired on 08/31/2013. Prior to submitting that ICR to OMB, OS seeks comments from the public regarding the burden estimate below or any other aspect of the ICR.

DATES: Comments on the ICR must be received on or before September 30, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-20165-60D for reference. Information Collection Request Title: Application for Appointment as a Commissioned Officer in the PHS Commission Corps.

Abstract: The information collected will include personal information such as name, social security number, and date of birth. Other information will be responses to various questions regarding an applicants' qualifications to join the Commissioned Corps of the U.S. Public Health Service.

Need and Proposed Use of the Information: The Commissioned Corps of the U.S. Public Health Service has a need for the information in order to assess the qualifications of each applicant and make a determination whether the applicant meets the requirements to receive a commission. The information is used to make determinations on candidates/applicants seeking appointment to the Corps to assess their whether they are suitable for life in the uniformed services based upon a review of a variety of assessment factors including, but not limited to: Personal adjustment, employment history, character, suitability investigation clearance, and a candidate's prior history of service in one of the uniformed services. Their potential for leadership as a commissioned officer and their ability to deal effectively with people is evaluated.

Likely Respondents: Respondents would be applicants/candidates for a commission in the Commissioned Corps of the United States Public Health Service.

Burden Statement: The time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Prequalification Review | 8,000 | 1 | 15/60 | 2,000
PHS-50 | 1,000 | 1 | 1.0 | 1,000
PHS-1813 | 4,000 | 1 | 15/60 | 1,000
Addendum: Commissioned Corps Personal Statement | 1,000 | 1 | 45/60 | 750
Total |  |  |  | 4,750

The Office of the Secretary (OS), Department of Health and Human Services specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Deputy Information Collection Clearance Officer.

[FR Doc. 2013-18459 Filed 7-31-13; 8:45 am]

BILLING CODE 4150-49-P